DEPARTMENT OF TRANSPORTATION

Federal Highway Administration

Revised Supplemental Environmental Assessment and Finding of No Significant Impact for the Proposed I-5 Rose Quarter Improvement Project

AGENCY: Federal Highway Administration (FHWA), Department of Transportation (USDOT).

ACTION: Notice of availability.

SUMMARY: The FHWA is issuing this notice to advise other Federal, State, and local agencies, Tribes, and the public that a Revised Supplemental Environmental Assessment (RSEA) and Finding of No Significant Impact (FONSI) have been prepared in accordance with the National Environmental Policy Act for the proposed Interstate-5 (I-5) Rose Quarter Improvement Project to improve safety and operations on I-5 between Interstate-84 and Interstate-405 in the Rose Quarter District of downtown Portland, Oregon.

FOR FURTHER INFORMATION CONTACT: Keith Lynch, Division Administrator, Federal Highway Administration, 530 Center Street NE, Suite 420, Salem, OR 97301; Telephone: (503) 399-5740. Thomas Parker, Environmental Program Manager, Federal Highway Administration, 530 Center Street NE, Suite 420, Salem, OR 97301; Telephone: (503) 316-2549; Email: thomas.w.parker@dot.gov. Megan Channell, Rose Quarter Project Director, ODOT Region 1, 123 NW Flanders St., Portland, OR 97209; Telephone: 971-233-6510; Email: megan.channell@odot.oregon.gov.

SUPPLEMENTARY INFORMATION: The FHWA and the Oregon Department of Transportation (ODOT) propose to undertake safety and operational improvements to I-5 through the Rose Quarter district in downtown Portland, Oregon. Federal cooperating agencies in the preparation of the RSEA and FONSI include the National Oceanic and Atmospheric Administration National Marine Fisheries Service, U.S. Army Corps of Engineers, and the U.S. Coast Guard.

The proposed improvements extend existing auxiliary lanes and adds a new auxiliary lane to improve safety and operations on I-5 between Interstate-84 and Interstate-405. Improvements also include a new highway cover to connect N Hancock Street to NE Hancock Street and provide buildable space, modifications to the Broadway-Weidler interchange, traffic flow revisions, and local system multimodal improvements. This RSEA evaluates the benefits and impacts of two alternatives: one in which the I-5 Project would move forward as planned (the Revised Build Alternative), and one in which the Project would not be built (the No-Build Alternative). The ODOT evaluated the Revised Build Alternative in the 2022 Supplemental Environmental Assessment (SEA) which was published on November 5, 2022, for a 50-day public comment period which ended on January 4, 2023. In response to public comments received on the SEA, ODOT refined the design of the Revised Build Alternative. This RSEA reflects changes to the SEA based on those design refinements.

Authority: 42 U.S.C. 4321 et seq.; 23 U.S.C. 139.

Keith Lynch,
FHWA Division Administrator, Salem, OR.

[FR Doc. 2024-05200 Filed 3-11-24; 8:45 am]

BILLING CODE 4910-RY-P